POSTAL REGULATORY COMMISSION

[Docket No. MC2011-22; Order No. 681]

New Postal Products

AGENCY: Postal Regulatory Commission.

ACTION: Notice.

SUMMARY: This notice addresses a recent Postal Service filing concerning proposed changes to First-Class Mail Parcel Product offerings. These changes include removing commercial First-Class Mail Parcels from the market dominant list and adding a new product to the competitive product list. This notice identifies preliminary procedural steps and invites public comment.

DATES: Comments are due: March 16, 2011; reply comments are due: March 25, 2011.

ADDRESSES: Submit comments electronically by accessing the “Filing Online” link in the banner at the top of the Commission's Web site (http://www.prc.gov) or by directly accessing the Commission's Filing Online system at https://www.prc.gov/prc-pages/filing-online/login.aspx. Commenters who cannot submit their views electronically should contact the person identified in FOR FURTHER INFORMATION CONTACT section as the source for case-related information for advice on alternatives to electronic filing.

FOR FURTHER INFORMATION CONTACT: Stephen L. Sharfman, General Counsel, at 202-789-6820 (case-related information) or DocketAdmins@prc.gov (electronic filing assistance).

SUPPLEMENTARY INFORMATION: On February 24, 2011, the Postal Service filed a request with the Commission to modify the market dominant and the competitive product lists pursuant to 39 U.S.C. 3642 and 39 CFR 3020.30 et seq.¹ The Postal Service proposes to: (1) remove commercial First-Class Mail Parcels from the market dominant product list; and (2) add a new product, provisionally titled Lightweight Commercial Parcels, to the competitive product list.

¹ Request of the United States Postal Service Under Section 3642, February 24, 2011 (Request).

The Postal Service explains that commercial First-Class Mail Parcels refers to the First-Class Mail Commercial Base Parcels and the First-Class Mail Commercial Plus Parcels price categories of the First-Class Mail Parcels product. Id. at 1, n.1. It contends that these are essentially fulfillment shipping offerings that compete with an assortment of comparable products offered by competitors. Id. at 2. Thus, the Postal Service proposes to remove these price categories from the market dominant First-Class Mail Parcels product and add the price categories to the competitive product list as a new product titled “Lightweight Commercial Parcels.” Content restrictions will be added to the new product prohibiting the inclusion of letters as defined under the Private Express Statutes. This proposal does not affect the current market dominant retail First-Class Mail Parcels offerings.

The Postal Service includes the following attachments with its Request:

• Attachment A—Resolution of the Governors of the United States Postal Service, Resolution No. 11-3, Restructuring First-Class Mail Parcel Product Offerings;

• Attachment B—Statement of Supporting Justification; and

• Attachment C—Mail Classification Changes.

The Commission establishes Docket No. MC2011-22 to consider the Postal Service's product list modification proposals described within its Request.

Interested persons may submit comments on whether the Postal Service's filing in the captioned docket is consistent with the policies of 39 U.S.C. 3642, 39 CFR 3020.30 et seq. and the general provisions of title 39. Comments are due no later than March 16, 2011. Reply comments, if any, are due March 25, 2011. The Postal Service's filing can be accessed via the Commission's Web site (http://www.prc.gov).

The Commission appoints Emmett Rand Costich to serve as Public Representative in the captioned proceedings.

It is ordered:

1. The Commission establishes Docket No. MC2011-22 for consideration of matters raised by the Postal Service's Request.

2. Comments by interested persons in this proceeding are due no later than March 16, 2011.

3. Reply comments by interested persons in this proceeding are due no later than March 25, 2011.

4. Pursuant to 39 U.S.C. 505, Emmett Rand Costich is appointed to serve as the officer of the Commission (Public Representative) to represent the interests of the general public in this proceeding.

5. The Secretary shall arrange for publication of this order in the Federal Register.

By the Commission.
Shoshana M. Grove,
Secretary.

[FR Doc. 2011-4742 Filed 3-2-11; 8:45 am]

BILLING CODE 7710-FW-P